DEPARTMENT OF ENERGY

Federal Energy Regulatory Commission

[Docket No. EL02-103-000, et al.]

City of Vernon, California, et al.; Electric Rate and Corporate Regulation Filings

July 10, 2002.

The following filings have been made with the Commission. The filings are listed in ascending order within each docket classification.

1. City of Vernon, California

[Docket No. EL02-103-000]

Take notice that on June 28, 2002, the City of Vernon, California (Vernon) tendered for filing changes to its Transmission Revenue Balancing Account Adjustment (TRBA Adjustment) and to Appendix I of its Transmission Owner Tariff (TO Tariff).

Vernon requests a July 1, 2002 effective date for its filing, unless, as discussed in its filing, the Commission approves and implements changes in the California Independent System Operator Corporation (ISO) FERC Electric Tariff that would provide for a different effective date for the periodic changes to Participating Transmission Owner TRBA Adjustments, as has or may be sought by the ISO.

Vernon states that copies of this filing have been served on the California Independent System Operator Corporation and the three other Participating Transmission Owners, as well as served upon all individuals on the service list in Commission Docket No. EL00-105.

Comment Date: July 26, 2002.

2. California Power Exchange Corporation

[Docket No. EL02-104-000]

Take notice that on July 3, 2002, the California Power Exchange Corporation (CalPX) filed with the Federal Energy Regulatory Commission (Commission) a Petition for Declaratory Order. The Petition requests that the Commission issue a declaratory order setting forth several principles governing the Reorganized PX that will emerge from CalPX's current bankruptcy proceeding. The various regulatory issues arise from two Reorganization Plans that have been filed in the Bankruptcy Court, one plan by CalPX and the other by the Official Committee of Participant Creditors.

Comment Date: July 25, 2002.

3. California Independent System Operator Corporation

[Docket No. ER99-1770-002]

Take notice that on June 21, 2002, California Independent System Operator Corporation (ISO) submitted a compliance filing to the Commission's Order “Granting in Part and Denying in Part Rehearing and Directing Compliance Filing” dated May 22, 2002 in the above-captioned docket.

Comment Date: July 22, 2002.

4. New York Independent System Operator, Inc.

[Docket Nos. ER01-3155-004, EL01-45-012 and ER01-1385-013]

Take notice that on July 2, 2002, the New York Independent System Operator, Inc. (NYISO) filed revisions to its Market Mitigation Measures, Attachment H to the NYISO Market Administration and Control Area Services Tariff (Services Tariff), to comply with the Commission's Order on Compliance Filing issued on May 31, 2002, in the above-captioned docket. The NYISO has requested an effective date of June 1, 2002, for the filing.

The NYISO has served a copy of this filing upon parties on the official service lists maintained by the Commission for the above-captioned dockets.

Comment Date: July 23, 2002.

5. PacifiCorp

[Docket No. ER02-653-002]

Take notice that PacifiCorp on July 2, 2002, tendered for filing in accordance with 18 CFR 35 of the Federal Energy Regulatory Commission's (Commission) Rules and Regulations and in compliance with the Commission's orders previously issued in this proceeding, Fourth Revised Volume No. 11 (Tariff) incorporating proposed changes to its Open Access Transmission Tariff due to retail direct access in the state of Oregon and generation interconnection requirements.

Comment Date: July 23, 2002.

6. Florida Power & Light Company

[Docket Nos. ER02-700-003

Take notice that on July 2, 2002, Florida Power & Light Company (FPL) filed, pursuant to the Commission's Order issued on June 14, 2002 in Docket Nos. ER02-700-001 and ER02-700-002, a compliance filing making the required changes to the Interconnection & Operation Agreement between FPL and Okeechobee Generating Company, LLC.

Comment Date: July 23, 2002.

7. Florida Power & Light Company

[Docket Nos. ER02-766-003]

Take notice that on July 2, 2002, Florida Power & Light Company (FPL) filed, pursuant to the Federal Energy Regulatory Commission's (Commission) Order issued on June 14, 2002 in Docket Nos. ER02-766-001 and ER02-766-002, a compliance filing making the required changes to the Interconnection & Operation Agreement between FPL and DeSoto County Generating Company, LLC.

Comment Date: July 23, 2002.

8. Zion Energy, LLC

[Docket No. ER02-2178-000]

Take notice that on June 27, 2002, Zion Energy, LLC (Zion) tendered for filing an executed power sales agreement under which it will make wholesale sales of electric energy to Calpine Energy Services, L.P. at market-based rates.

Comment Date: July 22, 2002.

9. Entergy Services, Inc.

[Docket No. ER02-2243-000]

Take notice that on July 2, 2002, Entergy Services, Inc., on behalf of Entergy Mississippi, Inc., tendered for filing an unexecuted, amended and restated Interconnection and Operating Agreement with Reliant Energy Choctaw County LLC (Reliant), and a Generator Imbalance Agreement with Reliant (the First Revised Interconnection Agreement).

Comment Date: July 23, 2002.

10. Portland General Electric Company

[Docket No. ER02-2244-000]

Take notice that on July 2, 2002, pursuant to Section 205 of the Federal Power Act, Portland General Electric Company (PGE) tendered for filing with the Federal Energy Regulatory Commission a proposed revision to FERC Rate Schedule No. 210, PGE's currently effective rate schedule for the 1964 Pacific Northwest Coordination Agreement (PNCA). PGE has filed a revised tariff sheet to reflect an extension of the term of the PNCA from June 30, 2003 to July 31, 2003. PGE requests that the Commission accept the change effective August 1, 2002.

Copies of this filing have been served upon all parties to the PNCA.

Comment Date: July 23, 2002.

11. New York State Electric & Gas Corporation

[Docket No. ER02-2245-000]

Take notice that on July 2, 2002 New York State Electric & Gas Corporation (NYSEG) tendered for filing an Agreement with Groton Electric Cooperative, Inc. (Groton), for Facilities Agreement.

NYSEG has served copies of the filing on The New York State Public Service Commission and on the Customer. NYSEG requests an effective date of August 1, 2002.

Copies of the filing were served upon the Village of Groton Electric Cooperative, Inc. and the Public Service Commission of the State of New York.

Comment Date: July 23, 2002.

12. Mountain View Power Partners, LLC

[Docket No. ER02-2246-000]

Take notice that on July 2, 2002, Mountain View Power Partners, LLC (Mountain View) filed an Amended and Restated Master Agreement and a Confirmation entered into thereunder for power sales with PG&E Energy Trading-Power, L.P. under Mountain View's market-based rate tariff.

Comment Date: July 23, 2002.

13. Mountain View Power Partners II, LLC

[Docket No. ER02-2247-000]

Take notice that on July 2, 2002, Mountain View Power Partners II, LLC (Mountain View II) filed an Amended and Restated Master Agreement and a Confirmation entered into thereunder for power sales with PG&E Energy Trading-Power, L.P. under Mountain View II's market-based rate tariff.

Comment Date: July 23, 2002.

14. Duke Energy Corporation

[Docket No. ER02-2248-000]

Take notice that on July 2, 2002, Duke Energy Corporation, on behalf of Duke Electric Transmission (collectively, Duke), tendered for filing a Balancing Agreement (Agreement) between Duke and the City of Concord, North Carolina (Customer) under Duke's Open Access Transmission Tariff. Duke seeks an effective date of June 17, 2002 for the Agreement.

Comment Date: July 23, 2002

15. PJM Interconnection, L.L.C.

[Docket No. ER02-2249-000]

Take notice that on July 2, 2002, PJM Interconnection, L.L.C. (PJM), tendered for filing with the Federal Energy Regulatory Commission (Commission) the following two executed service agreements: (1) an umbrella agreement for short-term firm point-to-point transmission service with Con Edison Energy, Inc. (Con Edison); and (2) an umbrella agreement for non-firm point-to-point transmission service with Con Edison.

PJM requested a waiver of the Commission's notice regulations to permit the effective date of June 3, 2002 for the agreements, the date that the agreements were executed. Copies of this filing were served upon Con Edison, as well as the state utility regulatory commissions within the PJM region.

Comment Date: July 23, 2002.

16. Reliant Energy HL&P

[Docket No. ER02-2251-000]

Take notice that on July 3, 2002, Reliant Energy HL&P tendered for filing a revised Transmission Service Tariff for Transmission Service To, From and Over Certain Interconnections, FERC Electric Tariff, Fourth Revised Volume No. 1 (TFO Tariff). Under the revised TFO Tariff, Reliant Energy HL&P will provide transmission service to, from and over certain interconnections. These interconnections include two high-voltage, direct-current interconnections, one with Southwestern Electric Power Company and one with the Southwest Power Pool, and an alternating current interconnection at the Valley Switching Station, located in Fannin County, Texas. Reliant Energy HL&P proposes to update the current TFO Tariff to be consistent with the new structure of the electric industry in Texas and to update the rate level to be consistent with Reliant Energy HL&P's rates for transmission service within the Electric Reliability Council of Texas (ERCOT), approved by the Public Utility Commission of Texas.

Reliant Energy HL&P states that this filing has been served upon the Public Utility Commission of Texas, all customers receiving service under the current TFO Tariff, and parties in Docket Nos. TX02-2 and ER02-1654. Notice of this filing has also been sent to all registered qualified scheduling entities in ERCOT.

Comment Date: July 24, 2002.

17. South Carolina Electric & Gas Company

[Docket No. ER02-2252-000]

Take notice that on July 3, 2002 South Carolina Electric & Gas Company (SCE&G) submitted for filing a service agreement between SCE&G and UBS Warburg Energy (UBS Warburg), a service agreement between SCE&G and Progress Ventures, Inc. (Progress), and a service agreement between SCE&G and TXU Energy Trading Company (TXU) (collectively, the Agreements) under SCE&G's FERC Electric Tariff, Second Revised Volume No. 2. SCE&G has requested an effective date for the Agreements of June 4, 2002.

SCE&G states that a copy of the filing has been served on UBS Warburg, Progress, TXU and the South Carolina Public Service Commission.

Comment Date: July 24, 2002.

18. PJM Interconnection, L.L.C.

[Docket No. ER02-2253-000]

Take notice that on July 3, 2002 PJM Interconnection, L.L.C. (PJM), submitted for filing two executed interim interconnection service agreements between PJM and Liberty Generating Company, L.L.C. and two executed interconnection service agreements between PJM and Reliant Energy Seward, L.L.C. and FPL Energy MH 50, L.P. PJM requests a waiver of the Commission's 60-day notice requirement to permit the effective dates agreed to by the parties.

Copies of this filing were served upon each of the parties to the agreements and the state regulatory commissions within the PJM region.

Comment Date: July 24, 2002.

19. Western Systems Power Pool, Inc.

[Docket No. ER02-2254-000]

Take notice that on July 2, 2002, the Western Systems Power Pool, Inc. (WSPP) submitted changes to the WSPP Agreement that modified certain limited commercial terms pertaining to the sale of power. WSPP seeks an effective date of September 1, 2002, for these changes.

Copies of the transmittal letter have been served on all state commissions within the United States. This filing also has been posted on the WSPP homepage (www.wspp.org) thereby providing notice to all WSPP members.

Comment Date: July 23, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Linwood A. Watson, Jr.,
Deputy Secretary.

[FR Doc. 02-18083 Filed 7-17-02; 8:45 am]

BILLING CODE 6717-01-P